DEPARTMENT OF ENERGY

Federal Energy Regulatory Commission

[Project No. 3428-205]

Brown Bear II Hydro, Inc.; Notice Granting Extension of Time

On January 14, 2026, the Commission issued a notice that the Worumbo Hydroelectric Project No. 3428 (project) was ready for environmental analysis and solicited motions to intervene, protests, comments, recommendations, preliminary terms and conditions, and preliminary fishway prescriptions (REA notice). On January 27, 2026, Brown Bear II Hydro, Inc. (Brown Bear) filed a request to extend the deadlines established in the REA notice by 74 days. Brown Bear states that additional time is needed to complete its ongoing evaluation of fish passage alternatives at the project in consultation with the licensing stakeholders. In support of its request, Brown Bear included correspondence from the National Marine Fisheries Service (NMFS), the U.S. Fish and Wildlife Service (FWS), and the Maine Department of Marine Resources. NMFS and FWS also filed separate letters on January 29, 2026, and February 3, 2026, respectively, in support of the request to extend the deadlines established in the REA notice.

The information provided by Brown Bear and supported by stakeholders indicates that evaluation of the fish passage alternatives is nearly complete. Because the results of the evaluation could inform Brown Bear's and the stakeholders' responses to the REA notice, this notice extends the deadlines established in the January 14 REA notice by 74 days. Accordingly, the application will be processed according to the schedule below. Revisions to the schedule may be made, as appropriate.

Milestone | Due date
Final amendments | April 28, 2026.
Filing of motions to intervene, protests, comments, recommendations, preliminary terms and conditions, and preliminary prescriptions | May 29, 2026.
Filing a copy of the water quality certification; a copy of the request for certification, including proof of the date on which the certifying agency received the request; or evidence of a waiver of water quality certification | May 29, 2026.
Filing of reply comments | July 13, 2026.

(Authority: 18 CFR 2.1.)

Dated: February 10, 2026.
Debbie-Anne A. Reese,
Secretary.

[FR Doc. 2026-03013 Filed 2-13-26; 8:45 am]

BILLING CODE 6717-01-P